DEPARTMENT OF JUSTICE

Antitrust Division

Notice Pursuant to the National Cooperative Research and Production Act of 1993 Wireless Industrial Technology Konsortium Inc.

Notice is hereby given that, on August August 8, 2008, pursuant to Section 6(a) of the National Cooperative Research and Production Act of 1993, 15 U.S.C. 5 4301 et seq. (“the Act”), Wireless Industrial Technology Konsortium Inc. (“WITK”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Airsprite Technologies, Inc., Marlborough, MA; Freescale Semiconductor, Inc., Austin, TX; Pepperl + Fuchs GmbH, Mannheim, GERMANY; Emerson Process Management LLLP, Eden Prairie, MN; Endress + Hauser Process Solutions AG, Reinach, SWITZERLAND; Software Technologies Group, Westchester, IL; Siemens AG, Karisruhe, GERMANY; and ABE Automation Products GmbH, Alzenau, GERMANY.

The general areas of WITK's planned activity are to develop, implement, promote and distribute on a nonprofit basis one or more software communication stacks and supporting products, the first of which will be the WirelessHART Specification (HART 7) published by the HART Communication Foundation, and to encourage the use of such communications stacks and products on a standardized basis within, for example, the process control and factory automation communities worldwide, provided, however, WITK shall not carry on any activity not permitted to be carried on by a corporation that is exempt from federal income tax under Section 501(a) of the Code as an organization described in Section 501(c)(6) of the Internal Revenue Code.

Patricia A. Brink,
Deputy Director of Operations, Antitrust Division.

[FR Doc. E8-21742 Filed 9-17-08; 8:45 am]

BILLING CODE 4410-11-M